OFFICE OF MANAGEMENT AND BUDGET

[OMB Control No. 0348-NEW]

Agency Information Collection Activity: United States Digital Service (USDS), Office of Management and Budget Collection of Formative Research on Agency Service Delivery

AGENCY: United States Digital Service (USDS), Office of Management and Budget.

ACTION: Notice and request for public comment.

SUMMARY: The United States Digital Service (USDS) within the Office of Management and Budget is announcing an opportunity for public comment on a new proposed collection of information by the agency. In compliance with the Paperwork Reduction Act (PRA) of 1995, USDS has submitted the collection of information to the Office of Management and Budget (OMB) for review. The PRA submission describes the nature of the information collection and its expected cost and burden.

DATES: Consideration will be given to all comments received on or before May 5, 2022.

ADDRESSES: Written comments and recommendations for the proposed information collection should be sent within 30 days of publication of this notice to www.reginfo.gov/public/do/PRAMain. Find this particular information collection by selecting “Currently under 30-day Review—Open for Public Comments” or by using the search function. Refer to “OMB Control No. 0348-NEW.”

FOR FURTHER INFORMATION CONTACT: Requests for additional information should be directed to Rachel Sauter, who may be reached at 202-881-7793 or Rachel.E.Sauter@omb.eop.gov.

SUPPLEMENTARY INFORMATION: On December 1, 2021, at 86 FR 68287, USDS published a Federal Register notice providing an initial 60 days for the submission of comments on the proposed information collection. USDS received zero comments.

Purpose

Under the PRA (44 U.S.C. 3501-3520), Federal agencies must obtain approval from the Office of Management and Budget (OMB) for each collection of information they conduct or sponsor. “Collection of information” is defined in 44 U.S.C. 3502(3) and 5 CFR 1320.3(c) and includes certain agency requests or requirements that members of the public submit reports, keep records, or provide information to a third party. Section 3507(a)(1)(D) of the PRA (44 U.S.C. 3507(a)(1)(D)) requires Federal agencies to publish a 30-day notice in the Federal Register notifying the public that a proposed collection of information has been submitted to OMB for review. To comply with that requirement, USDS is publishing this notice that it has submitted a proposed collection of information to OMB for generic clearance. OMB may not approve the proposed collection until after May 5, 2022.

Overview of This Information Collection

The mission of USDS is to deliver better government services through technology and design. In support of that mission, USDS engages directly with program applicants and beneficiaries, and other people who use or need to use the government systems and services we are helping to improve, and incorporates their feedback into our work and recommendations. By employing human-centered design practices like user research, USDS prioritizes the user's needs and learns what works as quickly as possible, saving time and money while improving services to the public. USDS deploys small, responsive groups of designers, engineers, product managers, and other specialists to work with and empower civil servants, working with many agencies simultaneously.

Under this generic clearance, USDS would engage in a variety of formative data collections with people who use or need to use government systems and services, such as program participants, practitioners, and service providers. The data collections would occur primarily through Discovery Sprints, which are short research projects designed to quickly understand complexities of systems or services in order to identify issues with service delivery, their root causes, and opportunities for improvement. Data collections would also occur during longer projects, as needed. USDS's research serves to provide further understanding of whether people engaging directly with government services are having an effective, efficient, and satisfying experience. USDS anticipates undertaking a variety of new research projects related to social safety net and general welfare programs, economic recovery efforts, healthcare, and more. Many Federal agencies and field offices find a need to learn more about the public's perceptions, experiences and expectations; early warnings of issues with service delivery; or areas where communication, training or changes in operations might improve delivery of products or services.

USDS envisions using a variety of techniques, including:

• Pre-study self-identification questionnaires

• Unmoderated comment cards/complaint forms

• Unmoderated qualitative user experience surveys (e.g., post-transaction surveys; opt-out web surveys)

• Unmoderated information architecture evaluative methods (e.g., card sorts; tree tests)

• Unmoderated content evaluative methods

• Long-term behavior and experience studies (e.g., diary study)

• Focus groups

• User research studies (e.g., user interviews; usability tests)

• Program assessment questionnaires

Overall, this research will be designed to fulfill the following goals: (1) Discover barriers to access that create inequities for users of government systems and services; (2) inform the development of USDS and agency research, (3) discover early warnings of issues with service delivery; and (4) focus attention on areas where communication, training or changes in operations might improve delivery of products or services. These collections will allow for ongoing, collaborative, and actionable communications between Federal agencies and the public. It will also allow feedback to contribute directly to the improvement of program management.

Following standard OMB requirements, USDS will submit a generic clearance information request for each individual data collection activity. Each request will include the individual instrument(s), a justification specific to the individual information collection, and any supplementary documents. OMB will attempt to review requests within 10 days of submission.

Information collected under this generic clearance will not be used to inform public policy (e.g., who is eligible for or receives benefits and services); rather, the findings are meant to inform USDS and internal agency discussions about opportunities to improve service delivery. The information collected in this effort will not be the primary subject of any published agency reports. Information gathered will be used only internally for general service improvement and program management purposes and is not intended for release outside of the agency. Information gathered will yield qualitative information; the collections will not be designed or expected to yield statistically representative results, but rather provide insight about the challenges that subsets of stakeholders face. All collections will be voluntary, non-controversial, and do not raise issues of concern to other Federal Agencies.

The information collected in this effort may be made public through methodological appendices or footnotes, reports on instrument development, instrument user guides, descriptions of respondent behavior, and other publications or presentations describing findings of methodological interest. The results of this pre-testing research may be prepared for presentation at professional meetings or publication in professional journals. When necessary, in presenting findings, we will describe the study methods and limitations with regard to generalizability, and results will be labeled as exploratory in nature.

An agency may not conduct or sponsor, and a person is not required to respond to, a collection of information unless it displays a currently valid OMB control number.

For further information contact: Rachel Sauter, 202-881-7793, Rachel.E.Sauter@omb.eop.gov.

Type of review: New.

Title of the collection of information: United States Digital Service (USDS), Office of Management and Budget Collection of Formative Research on Agency Service Delivery.

Affected public: Key stakeholder groups involved in specific Federal and State-administered programs; state or local government officials; participants in specific Federal and State-administered programs or similar comparison groups; and experts in fields pertaining to specific Federal and State research and programs.

USDS estimates that the total burden of this information collection over a three-year period will be 20,676 hours. USDS estimates that the annual burden of this information collection is as follows, with one response per respondent:

Estimated Annual Burden
Type of collection | Number of respondents | Minutes per response | Total hours
Pre-study self-identification questionnaire | 10,000 | 5 | 833
Unmoderated comment cards/complaint forms | 2,500 | 5 | 208
Unmoderated qualitative user experience questionnaire | 2,500 | 30 | 1,250
Unmoderated information architecture evaluative methods | 800 | 60 | 800
Unmoderated content evaluative methods | 800 | 60 | 800
Long-term behavior and experience studies | 50 | 300 | 250
Focus groups | 100 | 60 | 100
User research studies | 2,500 | 60 | 2,500
Program assessment questionnaires | 300 | 30 | 150
Total | 19,550 | 610 | 6,892

Authority: USDS is undertaking the collections at the discretion of the agency, and under the general authority of 44 U.S.C. 3504 and the Information Technology Oversight and Reform (ITOR) fund, as provided by the Consolidated Appropriations Act, 2021, Division E, Title II, Pub. L. 116-230.

Mina Hsiang,
Administrator, United States Digital Service.

[FR Doc. 2022-07151 Filed 4-4-22; 8:45 am]

BILLING CODE 3110-05-P